DEPARTMENT OF TRANSPORTATION

Federal Aviation Administration

Commercial Space Transportation Advisory Committee—Charter Renewal

AGENCY: Federal Aviation Administration (FAA), Department of Transportation (DOT).

ACTION: Announcement of renewal of the Commercial Space Transportation Advisory Committee (COMSTAC) charter.

SUMMARY: FAA announces the renewal of the COMSTAC charter, a Federal Advisory Committee that provides information, advice, and recommendations to DOT and the FAA on the critical matters facing the U.S. commercial space transportation industry. This renewal will take effect the day of publication of this announcement, and will expire after 2 years.

FOR FURTHER INFORMATION CONTACT: James A. Hatt, COMSTAC Designated Federal Officer, FAA, Commercial Space Transportation, 800 Independence Avenue SW, Rm. 331, Washington, DC 20591, telephone (202) 267-7635, email james.a.hatt@faa.gov.

SUPPLEMENTARY INFORMATION: Pursuant to Section 10(a)(2) of the Federal Advisory Committee Act (Pub. L. 92-463), FAA is giving notice of the renewal of the COMSTAC charter. The primary goals of COMSTAC are to: Evaluate economic, technological, and institutional developments relating to the U.S. commercial space transportation industry; provide a forum for the discussion of issues involving the relationship between industry activities and government requirements; in order to provide advice and recommendations to the Secretary on issues and approaches for Federal policies and programs regarding the industry. COMSTAC membership consists of senior executives from the commercial space transportation industry; representatives from the satellite industry, both manufacturers and users; state and local government officials; representatives from firms providing insurance, financial investment and legal services for commercial space activities; and representatives from academia, space advocacy organizations, and industry associations. Complete information regarding COMSTAC is available on the FAA website at: http://www.faa.gov/about/office_org/headquarters_offices/ast/advisory_committee/.

Signed in Washington, DC, on June 11, 2021.
Peter Paul Montgomery Buttigieg,
Secretary of Transportation.

[FR Doc. 2021-13359 Filed 6-23-21; 8:45 am]

BILLING CODE 4910-13-P